DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 25 individuals and 1 entity whose property and interests in property have been unblocked pursuant to Executive Order 12978 of October 21, 1995, “Blocking Assets and Prohibiting Transactions With Significant Narcotics Traffickers”.

DATES: The unblocking and removal from the list of Specially Designated Nationals and Blocked Persons (“SDN List”) of the 25 individuals and 1 entity identified in this notice whose property and interests in property were blocked pursuant to Executive Order 12978 of October 21, 1995, is effective on June 13, 2012.

FOR FURTHER INFORMATION CONTACT: Assistant Director, Sanctions Compliance & Evaluation, Department of the Treasury, Office of Foreign Assets Control, Washington, DC 20220, Tel: (202)622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 13, 2012, the Director of OFAC removed from the SDN List the 25 individuals and 1 entity listed below, whose property and interests in property were blocked pursuant to the Order:

Individuals

1. ARIAS GAMEZ, Johana Milena, c/o CAJA SOLIDARIA, Bogota, Colombia; c/o COOPCREAR, Bogota, Colombia; c/o JYG ASESORES LTDA., Bogota, Colombia; c/o SOLUCIONES COOPERATIVAS, Cali, Colombia; c/o COOPERATIVA DE TRABAJO ASOCIADO ACTIVAR, Bogota, Colombia; Calle 69 No. 10A-53, Bogota, Colombia; Carrera 32 No. 25-71, Bogota, Colombia; DOB 06 Nov 1982; Cedula No. 52906667 (Colombia) (INDIVIDUAL) [SDNT].

2. ARJONA ALVARADO, Rafael Guillermo, c/o FARMATODO S.A., Bogota, Colombia; c/o LABORATORIOS KRESSFOR DE COLOMBIA S.A., Bogota, Colombia; c/o ALPHA PHARMA S.A., Bogota, Colombia; c/o LABORATORIOS BLAIMAR, Bogota, Colombia; DOB 28 Jun 1961; Cedula No. 19442698 (Colombia) (INDIVIDUAL) [SDNT].

3. ABRIL RAMIREZ, Wilson Arcadio, c/o COOPCREAR, Bogota, Colombia; c/o COOPERATIVA MULTIACTIVA DE COLOMBIA FOMENTAMOS, Bogota, Colombia; c/o COOPERATIVA DE TRABAJO ASOCIADO ACTIVAR, Bogota, Colombia; DOB 25 Jul 1972; Cedula No. 79643115 (Colombia) Passport 79643115 (Colombia) (INDIVIDUAL) [SDNT].

4. ACHURY VARILLA, Hernan Augusto (a.k.a. ACHURY VARILA, Hernan Augusto), c/o COOPCREAR, Cali, Colombia; c/o COOPERATIVA MULTIACTIVA DE COLOMBIA FOMENTAMOS, Bogota, Colombia; c/o ARCA DISTRIBUCIONES LTDA., Bogota, Colombia; c/o COOPERATIVA DE TRABAJO ASOCIADO ACTIVAR, Bogota, Colombia; DOB 14 Feb 1980; Cedula No. 80226706 (Colombia) Passport 80226706 (Colombia) (INDIVIDUAL) [SDNT].

5. HACHITO SANCHEZ, Angel Alberto, c/o COPSERVIR LTDA., Bogota, Colombia; DOB 09 Nov 1962; Cedula No. 17634454 (Colombia) (INDIVIDUAL) [SDNT].

6. HERRERA AGUILERA, Augusto, c/o FARMAVISION LTDA., Bogota, Colombia; Cedula No. 17067884 (Colombia) (individual) [SDNT].

7. CASTANEDA, Martha Helena, c/o SOLUCIONES COOPERATIVAS, Cali, Colombia; Cedula No. 41658669 (Colombia) (INDIVIDUAL) [SDNT].

8. CORREDOR RUEDA, Jaqueline, c/o CAJA SOLIDARIA, Bogota, Colombia; c/o COPSERVIR LTDA., Bogota, Colombia; c/o MEGAPHARMA LTDA., Bogota, Colombia; c/o FARMAVISION LTDA., Bogota, Colombia; Calle 52A No. 31-67, Bogota, Colombia; Cedula No. 51815763 (Colombia) (INDIVIDUAL) [SDNT].

9. DAZA QUIROGA, Hugo Carlos, c/o LABORATORIOS KRESSFOR DE COLOMBIA S.A., Bogota, Colombia; c/o DISTRIBUIDORA DE DROGAS CONDOR LTDA., Bogota, Colombia; c/o DISTRIBUIDORA MYRAMIREZ S.A., Cali, Colombia; c/o LABORATORIOS GENERICOS VETERINARIOS, Bogota, Colombia; DOB 23 Feb 1954; Cedula No. 19236485 (Colombia) (INDIVIDUAL) [SDNT].

10. FERNANDEZ GRANADOS, Claudia, c/o CAJA SOLIDARIA, Bogota, Colombia; c/o COOMULCOSTA, Barranquilla, Colombia; c/o COPSERVIR LTDA., Bogota, Colombia; Cedula No. 57433265 (Colombia) (INDIVIDUAL) [SDNT].

11. FERNANDEZ LACERA, Felix Daniel, c/o COOPIFARMA, Bucaramanga, Colombia; c/o COPSERVIR LTDA., Bogota, Colombia; Carrera 95 No. 68A-24 ap. 221, Bogota, Colombia; Cedula No. 4979304 (Colombia) (INDIVIDUAL) [SDNT].

12. GAMBA SANCHEZ, Fernando, c/o DISTRIBUIDORA DE DROGAS CONDOR S.A., Bogota, Colombia; DOB 03 Nov 1962; Cedula No. 19494919 (Colombia) (INDIVIDUAL) [SDNT].

13. GAMEZ, Gilberto, c/o ARCA DISTRIBUCIONES LTDA., Bogota, Colombia; Cedula No. 79846794 (Colombia) (INDIVIDUAL) [SDNT].

14. GONZALEZ, Maria Luz Nelly, c/o COOPERATIVA MULTIACTIVA DE COLOMBIA FOMENTAMOS, Bogota, Colombia; c/o COOPERATIVA DE TRABAJO ASOCIADO ACTIVAR, Bogota, Colombia; Cedula No. 51973466 (Colombia) (INDIVIDUAL) [SDNT].

15. GUTIERREZ RODRIGUEZ, Pablo, c/o COPSERVIR LTDA., Bogota, Colombia; c/o LITOPHARMA, Barranquilla, Colombia; Cedula No. 85435604 (Colombia) (INDIVIDUAL) [SDNT].

16. MONTANO PACHON, Marlen, c/o COOPCREAR, Cali, Colombia; c/o COOPERATIVA MULTIACTIVA DE COLOMBIA FOMENTAMOS, Bogota, Colombia; c/o COOPERATIVA DE TRABAJO ASOCIADO ACTIVAR, Bogota, Colombia; Cedula No. 52492258 (Colombia) (INDIVIDUAL) [SDNT].

17. MORENO GOMEZ, Ingrid Del Carmen, c/o CAJA SOLIDARIA, Bogota, Colombia; c/o COOMULCOSTA, Barranquilla, Colombia; c/o COPSERVIR LTDA., Bogota, Colombia; c/o LITOPHARMA, Barranquilla, Colombia; Cedula No. 49741445 (Colombia) (INDIVIDUAL) [SDNT].

18. ROCHA MERINO, Abel Zacarias, c/o COPSERVIR LTDA., Bogota, Colombia; c/o CAJA SOLIDARIA, Bogota, Colombia; Cedula No. 8758394 (Colombia) (individual) [SDNT].

19. MERCADO DE LA HOZ, Manuel Enrique, c/o COPSERVIR LTDA., Bogota, Colombia; Cedula No. 72134380 (Colombia) (INDIVIDUAL) [SDNT].

20. TORRES REINA, Oscar Javier, c/o COOPCREAR, Cali, Colombia; c/o COOPERATIVA MULTIACTIVA DE COLOMBIA FOMENTAMOS, Bogota, Colombia; c/o COOPERATIVA DE TRABAJO ASOCIADO ACTIVAR, Bogota, Colombia; DOB 02 Jan 1978; Cedula No. 79886044 (Colombia) Passport 79886044 (Colombia) (INDIVIDUAL) [SDNT].

21. REINA DE TORRES, Rosalba, c/o TRIMARK LTDA., Bogota, Colombia; Cedula No. 41719184 (Colombia) (INDIVIDUAL) [SDNT].

22. SARMIENTO LAVERDE, Azucena Del Carmen, c/o MEGAPHARMA LTDA., Bogota, Colombia; Calle 22C No. 39-80, Bogota, Colombia; Carrera 20 No. 7-57, Bogota, Colombia; DOB 17 Nov 1954; Cedula No. 41649539 (Colombia) (INDIVIDUAL) [SDNT].

23. SUAREZ RIANO, Adela, c/o VILLARO LTDA., Bogota, Colombia; Cedula No. 39646144 (Colombia) (INDIVIDUAL) [SDNT].

24. CORREA GIRALDO, Ricardo Leon, c/o COOPCREAR, Cali, Colombia; c/o COOPERATIVA DE TRABAJO ASOCIADO ACTIVAR, Bogota, Colombia; Carrera 1 No. 2-45 Bloque A ap. 33, Cali, Colombia; DOB 27 Oct 1954; Cedula No. 70085655 (Colombia) (INDIVIDUAL) [SDNT].

25. ROJAS DE MENDOZA, Marleny, c/o COOPIFARMA, Bucaramanga, Colombia; Carrera 17 No. 17-65, Bucaramanga, Colombia; DOB 26 Jan 1956; Cedula No. 63288987 (Colombia) (INDIVIDUAL) [SDNT].

Entity

1. YAMAHA MUNDIAL LIMITADA, Carrera 4 No. 5A-03, Santa Marta, Colombia; NIT # 900016791-2 (Colombia) [SDNT].

Dated: June 12, 2012.
Adam J. Szubin,
Director, Office of Foreign Assets Control.

[FR Doc. 2012-21896 Filed 9-5-12; 8:45 am]

BILLING CODE 4810-AL-P